NUCLEAR REGULATORY COMMISSION

[NRC-2011-0135]

Guidelines for Preparing and Reviewing Licensing Applications for the Production of Radioisotopes

AGENCY: Nuclear Regulatory Commission.

ACTION: Draft interim staff guidance; request for public comment.

SUMMARY: The U.S. Nuclear Regulatory Commission (NRC or the Commission) is requesting public comment on chapters 1-6 of Draft Interim Staff Guidance (ISG), NPR-ISG-2011-002, that augments NUREG-1537, part 1, “Guidelines for Preparing and Reviewing Applications for the Licensing of Non-Power Reactors: Format and Content,” for the Production of Radioisotopes and NUREG-1537, part 2, “Guidelines for Preparing and Reviewing Applications for the Licensing of Non-Power Reactors: Standard Review Plan and Acceptance Criteria,” for the Production of Radioisotopes (chapters 7-18 of the ISG will be published in a future Federal Register notice). This ISG provides guidance to potential applicants for preparing an application to obtain a construction and operating license for a radioisotope production facility and the Research and Test Reactor Licensing Branch (PRLB) of the Division of Policy and Rulemaking (DPR) and the Office of Nuclear Reactor Regulation (NRR) on the information that should be included in such application.

DATES: Submit comments by November 14, 2011. Comments received after this date will be considered if it is practical to do so, but the Commission is able to ensure consideration only for comments received on or before this date.

ADDRESSES: Please include Docket ID NRC-2011-0135 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0135. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

FOR FUTHER INFORMATION CONTACT: Mr. Marcus Voth, Research and Test Reactors Licensing Branch, Division of Policy and Rulemaking, Office of Nuclear Reactor Regulation, U.S. Nuclear Regulatory Commission, Washington, DC 20005-0001; telephone: 301-415-1210; e-mail: marcus.voth@nrc.gov.

SUPPLEMENTARY INFORMATION:

I. Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft ISG is located in ADAMS under accession numbers ML111160058 (Part 1, Chapters 1-6) and ML111810010 (Part 2, Chapters 1-6).

• Federal Rulemaking Web Site: Public comments and supporting materials related to this notice can be found at http://www.regulations.gov by searching on Docket ID NRC-2011-0135.

II. Public Comments

The NRC staff is soliciting public comments on draft NPR-ISG-2011-002. After the NRC staff considers any public comments received, it will make a determination regarding the issuance of the final ISG.

Dated at Rockville, Maryland, this 30th day of September, 2011.
For the Nuclear Regulatory Commission.
Patricia A. Silva,
Chief, Research and Test Reactors Projects Branch, Division of Policy and Rulemaking, Office of Nuclear Reactor Regulation.

[FR Doc. 2011-26472 Filed 10-12-11; 8:45 am]

BILLING CODE 7590-01-P